DEPARTMENT OF ENERGY

Federal Energy Regulatory Commission

[Project No. 2030-036]

Portland General Electric and the Confederated Tribes of the Warm Springs Reservation of Oregon; Notice of Meeting To Discuss the Pelton Round Butte Hydroelectric Project Collaborative Settlement Process and Procedural Schedule

March 19, 2004.

a. Date and Time of Meeting: Tuesday, April 6, 2004, from 1 p.m. to 3 p.m., eastern daylight saving time.

b. Place: Federal Energy Regulatory Commission, 888 First Street, NE., Washington, DC.

c. FERC Contact: Nicholas Jayjack.

d. Purpose of Meeting: Portland General Electric has requested a meeting with Commission staff to discuss both an agreement in principle that has been reached in ongoing settlement negotiations and a procedural schedule for concluding the Pelton Round Butte Hydroelectric Project relicensing proceeding. The project is located on the Deschutes River in north central Oregon.

e. Proposed Agenda: (1) Introduction of participants; (2) Portland General Electric presentation on the purpose of the meeting; (3) discussion; and (4) conclusion.

f. Commission staff will not issue a Final Environmental Impact Statement for the project prior to this meeting.

g. All local, State, and Federal agencies, Indian tribes, and other interested parties are invited to participate either in person or by phone. Please call Nicholas Jayjack at (202) 502-6073 by April 2, 2004, to RSVP and to receive specific instructions on how to participate.

Magalie R. Salas,
Secretary.

[FR Doc. E4-667 Filed 3-24-04; 8:45 am]

BILLING CODE 6717-01-P